DEPARTMENT OF AGRICULTURE

Forest Service

National Urban and Community Forestry Advisory Council

AGENCY: Forest Service, USDA.

ACTION: Notice of meeting.

SUMMARY: The National Urban and Community Forestry Advisory Council (Council) will meet in Flushing, New York. The Council is authorized by the Cooperative Forestry Assistance Act, and the Federal Advisory Committee Act (FACA). Additional information concerning the Council, can be found by visiting the Council's Web site at: http://www.fs.fed.us/ucf/nucfac.shtml.

DATES: The meeting will be held on the following dates and times:

• Tuesday, July 18, 2017 from 8:30 a.m. to 4:30 p.m. (EDT)

• Wednesday, July 19, 2017 from 9:00 a.m. to 5:00 p.m. (EDT), and

• Thursday, July 20, 2017 from 9:00 a.m. to 12:00 noon (EDT) or until Council business is completed.

All meetings are subject to cancellation. For an updated status of meeting prior to attendance, please contact the person listed under FOR FURTHER INFORMATION CONTACT.

ADDRESSES: The meeting will be held at various sites, i.e., the Queens Botanical Garden, in the Meeting Room, 43-50 Main Street, Flushing, New York, the U.S. Forest Service, New York City Field Station, 431 Walter Reed Road, Building 431, in the Upstairs Conference Room, Bayside Queens, New York, and the Bronx site visit tour.

Written comments concerning this meeting should be submitted as described under SUPPLEMENTARY INFORMATION. All comments, including names and addresses, when provided, are placed in the record and available for public inspection and copying. The public may inspect comments received at the USDA Forest Service, Sidney Yates Building, Room 3SC-01B, 201 14th Street SW., Washington, DC 20024. Please call ahead at (202) 309-9873 to facilitate entry into the building.

FOR FURTHER INFORMATION CONTACT: Nancy Stremple, Executive Staff, National Urban and Community Forestry Advisory Council, Sidney Yates Building, Room 3SC-01C, 201 14th Street SW., Washington, DC 20024, by cell telephone at 202-309-9873, or by email at nstremple@fs.fed.us, or via facsimile at 202-690-5792. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Introduce new members;

2. Develop the 2017 Accomplishment and Recommendations;

3. Update status of the 2018 grant review;

4. Meet and listen to local constituents urban forestry concerns or opportunities;

5. Provide updates on the implementation of the Ten Year Urban Forestry Action Plan (2016-2026); and

6. Receive Forest Service budget and program updates.

The meeting is open to the public. The agenda will include time for people to make oral statements of three minutes or less. Individuals wishing to make an oral statement should submit a request in writing by Tuesday, July 11, 2017, to be scheduled on the agenda. Council discussion is limited to Forest Service staff and Council members, however anyone who would like to bring urban and community forestry matters to the attention of the Council may file written statements with the Council's staff before or after the meeting. Written comments and time requests for oral comments must be sent to Nancy Stemple, Executive Staff, National Urban and Community Forestry Advisory Council, Sidney Yates Building, Room 3SC-01C, 201 14th Street SW., Washington, DC 20024, or by email at nstremple@fs.fed.us.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: June 12, 2017.
Patti Hirami,
Associate Deputy Chief, State and Private Forestry.

[FR Doc. 2017-12479 Filed 6-15-17; 8:45 am]

BILLING CODE 3411-15-P